LIBRARY OF CONGRESS

Copyright Royalty Board

[Docket No. 19-CRB-0009 AA]

Determination and Allocation of Initial Administrative Assessment To Fund Mechanical Licensing Collective

AGENCY: Copyright Royalty Board, Library of Congress.

ACTION: Notice announcing commencement of Initial Administrative Assessment proceeding and requesting Petitions to Participate.

SUMMARY: The Copyright Royalty Judges (Judges) announce commencement of a proceeding to determine the initial administrative assessment that digital music providers and any significant nonblanket licensees must pay to fund the operations of the Mechanical Licensing Collective. The Judges also set the date by which the Mechanical Licensing Collective and the Digital Licensee Coordinator must, and other eligible participants may, file a Petition to Participate and the accompanying $150 filing fee. A rule relating to the Determination and Allocation of Initial Administrative Assessment to Fund Mechanical Licensing Collective is published elsewhere in this issue of the Federal Register.

DATES: Petitions to Participate and the filing fee are due on or before July 23, 2019.

ADDRESSES: Each Petition to Participate must include the proceeding docket number, 19-CRB-0009 IAA. Participants must file using the online form on the CRB's electronic filing application, eCRB, at https://app.crb.gov/, unless they do not have access to the internet, in which case they may file using any of the following methods:

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building,LM-401, 101 Independence Avenue SE, Washington, DC 20559-6000.

Instructions: Unless submitting online, claimants must submit an original, two paper copies, and an electronic version on a CD. All submissions must include the Copyright Royalty Board name and docket number. All submissions received will be posted without change on eCRB including any personal information provided.

Docket: For access to the docket, go to eCRB, the Copyright Royalty Board's electronic filing and case management system, at https://app.crb.gov/, and search for docket number 19-CRB-0009 AA.

FOR FURTHER INFORMATION CONTACT: Anita Blaine, CRB Program Specialist, by telephone at (202) 707-7658 or email at crb@loc.gov.

SUPPLEMENTARY INFORMATION: The Copyright Royalty Judges (Judges) have promulgated regulations (published elsewhere in this issue of the Federal Register) governing new proceedings to determine the reasonableness of, and allocate responsibility to fund, the operating budget of the Mechanical Licensing Collective (MLC), as directed by the Orrin G. Hatch-Bob Goodlatte Music Modernization Act (MMA), Public Law 115-264, 132 Stat. 3676 (Oct. 11, 2018). 17 U.S.C. 115(d)(7)(D)(vii) and 801(b)(8) (2018). The result of the first such proceeding will be a determination by the Judges of an Initial Administrative Assessment that digital music providers and any significant nonblanket licensees must pay to fund the operations of the MLC. See 37 CFR 355.2(a), 355.6 (Jul. 8, 2019).¹ Section 355.2(a) requires the Judges to commence the first proceeding no later than July 8, 2019, by publication of a notice in the Federal Register seeking Petitions to Participate. The regulations require the participation of the MLC and the Digital Licensee Coordinator (DLC) in the proceeding and permit the participation of copyright owners, digital music providers, and significant nonblanket licensees. 37 CFR 355.2(c)-(d).

¹ All citations to the Judges regulations in this notice are to new or amended regulations that are published in this issue of the Federal Register.

The Judges hereby announce commencement of the proceeding, direct the MLC and the DLC to file Petitions to Participate, and request Petitions to Participate from any other eligible participant with a significant interest in the determination of the Initial Administrative Assessment.

Petitions To Participate

Parties filing Petitions to Participate must comply with the requirements of § 355.2(e) of the Judges' regulations.

How To Submit Petitions To Participate

Petitioners must submit a filing fee of $150 to the Copyright Royalty Board with their Petition to Participate, or the Judges will reject the petition. THE COPYRIGHT ROYALTY BOARD WILL NOT ACCEPT CASH.

Parties filing online through eCRB must fill out an online form (instead of filing a document) and pay the filing fee, if applicable, by credit card using the payment portal on eCRB. Any party without access to the internet must pay the filing fee by check or money order made payable to the “Copyright Royalty Board” and mailed or delivered with its filed paper documents and CD as described in the ADDRESSES section above. If a check is returned for lack of sufficient funds, the Judges will dismiss the corresponding Petition to Participate.

Any participant that is an individual may represent herself or himself. All other participants must be represented by counsel. In accordance with § 303.2 of the Judges' regulations, only attorneys who are members of the bar in one or more states or the District of Columbia and in good standing will be allowed to represent parties before the Copyright Royalty Judges.

The Judges will address further procedural matters, including scheduling, after receiving Petitions to Participate. 37 CFR 355(g)(1).

Dated: June 27, 2019.
Jesse M. Feder,
Chief Copyright Royalty Judge.

[FR Doc. 2019-14090 Filed 7-5-19; 8:45 am]

BILLING CODE 1410-72-P